DEPARTMENT OF LABOR

Employment and Training Administration

[TA-W-62,090]

ABN AMRO Services Co., Inc., A Wholly Owned Subsidiary of Lasalle Bank Corporation, Chicago, IL; Notice of Negative Determination Regarding Application for Reconsideration

By application postmarked October 18, 2007, the petitioner requested administrative reconsideration of the Department's negative determination regarding eligibility to apply for Trade Adjustment Assistance (TAA), applicable to workers and former workers of the subject firm. The denial notice was signed on September 17, 2007 and published in the Federal Register on October 3, 2007 (72 FR 56385).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a mis-interpretation of facts or of the law justified reconsideration of the decision.

The negative TAA determination issued by the Department for workers of ABN Amro Services Co., Inc., a wholly owned subsidiary of LaSalle Bank Corporation, Chicago, Illinois was based on the finding that the worker group does not produce an article within the meaning of Section 222 of the Trade Act of 1974. The investigation revealed that workers of the subject firm are engaged in information technology support. The investigation further revealed that no production of article(s) occurred within the firm or appropriate subdivision within the ABN Amro Services Co., Inc. and LaSalle Bank Corporation during the relevant time period.

The petitioner contends that the Department erred in its interpretation of the work performed by the workers of the subject firm. The petitioner acknowledges that the workers of the subject firm are “employees of the services sector supporting staff for the bank,” but further alleges that the workers of the subject firm “produced output on regular basis”. The petitioner describes these outputs as loans, wire transfer data, account reconciliation statements, billing statements, various statistical data, programs, reports, electronic files, etc.

The investigation revealed that all of the above “outputs” are information and documents used by the subject firm as incidentals to the purpose of the services provided by ABN Amro Services Co., Inc., a wholly owned subsidiary of LaSalle Bank Corporation. The investigation revealed that workers of ABN Amro Services Co., Inc., a wholly owned subsidiary of LaSalle Bank Corporation, Chicago, Illinois are engaged in IT applications support, maintenance and development. These services, as described above, are not considered production of an article within the meaning of Section 222 of the Trade Act. No production took place at the subject facility and the workers did not support production of articles at any affiliated firm in the relevant time period.

The petitioner also alleges that the positions have been shifted from the subject firm to India and China.

The allegation of a shift to another country might be relevant if it was determined that workers of the subject firm produced an article. However, the investigation determined that workers of ABN Amro Services Co., Inc., a wholly owned subsidiary of LaSalle bank Corporation, Chicago, Illinois do not produce an article within the meaning of Section 222 of the Trade Act of 1974.

Conclusion

After review of the application and investigative findings, I conclude that there has been no error or misinterpretation of the law or of the facts which would justify reconsideration of the Department of Labor's prior decision. Accordingly, the application is denied.

Signed in Washington, DC, this 5th day of December, 2007.
Linda G. Poole,
Certifying Officer, Division of Trade Adjustment Assistance.

[FR Doc. E7-24023 Filed 12-11-07; 8:45 am]

BILLING CODE 4510-FN-P